DEPARTMENT OF JUSTICE

Notice of Lodging of Consent Decree

Notice is hereby given that on September 23, 2010, a proposed Consent Decree was lodged with the United States District Court for the Central District of California. The Consent Decree was lodged in the case United States v. Air Distribution Products, et al., Civil Action No. 2:10-cv-07056-GW (C.D. Cal.).

The United States of America (“United States”), on behalf of the Administrator of the United States Environmental Protection Agency (“EPA”), and the California Department of Toxic Substances Control (“Department”) filed a complaint pursuant to Section 107 of the Comprehensive Environmental Response, Compensation, and Liability Act of 1980, as amended (“CERCLA”), 42 U.S.C. 9607, seeking reimbursement of response costs incurred or to be incurred for response actions taken in connection with the release or threatened release of hazardous substances at the South El Monte Operable Unit of the San Gabriel Valley Area 1 Superfund Site in South El Monte, Los Angeles County, California (the “South El Monte O.U.”).

Under the proposed Consent Decree, 15 potentially responsible parties with respect to the South El Monte O.U. will pay a total of about $2,007,095 (collectively). The settlement amounts are based on each settling defendant's ability to pay. In exchange for the payment, the plaintiffs covenant not to sue each settling defendant under Section 106 or 107 of CERCLA.

The Department of Justice will receive for a period of thirty (30) days from the date of this publication comments relating to the proposed Consent Decrees. Comments should be addressed to the Assistant Attorney General, Environment and Natural Resources Division, and either e-mailed to pubcomment-ees.enrd@usdoj.gov or mailed to P.O. Box 7611, U.S. Department of Justice, Washington, DC 20044-7611, and should refer to: United States v. Air Distribution Products, et al., (C.D. Cal.), D.J. Ref. 90-11-2-09121/4.

The proposed Consent Decree may be examined at EPA's Regional Office, 75 Hawthorne Street, San Francisco, California 94105. During the public comment period, the Consent Decrees may also be examined on the following Department of Justice Web site: http://www.usdoj.gov/enrd/Consent_Decrees.html. A copy of the proposed Consent Decrees may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check payable to the “U.S. Treasury” or, if by email or fax, forward a check in that amount to the Consent Decree Library at the stated address, in the following amount (25 cents per page reproduction cost): $11.25 for the Consent Decree in Air Distribution Products (without attachments).

Maureen Katz,
Assistant Section Chief, Environmental Enforcement Section, Environment and Natural Resources Division.

[FR Doc. 2010-25123 Filed 10-5-10; 8:45 am]

BILLING CODE 4410-15-P